DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address show below, not later than June 12, 2000.

Interested persons are invited to submit written comments regarding the subject matter of the investigations to the Director, Division of Trade Adjustment Assistance, at the address shown below, not later than June 12, 2000.

The petitions filed in this case are available for inspection at the Office of the Director, Division of Trade Adjustment Assistance, Employment and Training Administration, U.S. Department of Labor, 200 Constitution Avenue, NW, Washington, DC 20210.

Signed at Washington, DC this 15th day of May 2000.
Grant D. Beale,
Program Manager, Division of Trade Adjustment Assistance.

Appendix
[Petitions instituted on 05/15/2000]
TA-W | Subject firm (petitioners) | Location | Date of petition | Product(s)
37,661 | RHI Refractories (USWA) | Farber, MO | 04/20/2000 | Bricks for Steel Industry.
37,662 | Cap Cod Cricket Lane (Comp) | W. Bridgewater, MA | 04/27/2000 | Ladies' Apparel.
37,663 | Fruit of the Loom (Wrks) | New York, NY | 04/24/2000 | Apparel Patterns.
37,664 | Hutchinson Technology (Wrks) | Eau Claire, WI | 04/26/2000 | Suspension Systems for Disc Drive.
37,665 | Chetta B Evening Ltd (UNITE) | New York, NY | 04/18/2000 | Ladies' Dresses.
37,666 | Jensports (Wrks) | New Kensington, PA | 04/28/2000 | Ladies' Sportswear.
37,667 | AMF Reece, Inc. (Comp) | Mechanicsville, VA | 04/26/2000 | Industrial Sewing Machines.
37,668 | Pope and Talbot, Inc. (Comp) | New Castle, WY | 05/11/2000 | Softwood Lumber.
37,669 | Wheeling-LaBelle Nail Co. (Wrks) | Wheeling, WV | 05/02/2000 | Hardened Steel Cut Nails.
37,670 | Berstone Knitting Mills (Wrks) | Brooklyn, NY | 05/01/2000 | Collars, Cuffs and Waist.
37,671 | Hillsville Apparel, Inc. (Comp) | Hillsville, VA | 05/02/2000 | Knit Apparel.
37,672 | Total Rental Tool (Wrks) | Rush Springs, OK | 04/26/2000 | Valves for Oil Equipment.
37,673 | Dana Corp.—Marion Forge (IBB) | Marion, OH | 05/04/2000 | Axles and Ring Gears.
37,674 | Marquip, Inc. (Comp) | Madison, WI | 05/05/2000 | Paper Making Machines and Parts.
37,675 | Hagales Industries (Wrks) | Salem, MO | 04/26/2000 | Men's & Ladies' Pants and Shorts.
37,676 | Schreiber Foods, Inc. (IBT) | Monroe, WI | 04/27/2000 | Processed Cheese Products.
37,677 | Wheaton USA, Inc. (Comp) | Pennsville, NJ | 04/18/2000 | Silk Screens Glass Bottles.
37,678 | Packard Bell/NEC, Inc. (Wrks) | Boxborough, MA | 05/03/2000 | Assemble Computer Servers.
37,679 | National Semiconductor (Wrks) | South Portland, ME | 05/08/2000 | Die Products.
37,680 | Chick Orchards, Inc. (Comp) | Monmouth, ME | 05/01/2000 | Apples and Apple Cider.
37,681 | PJC Sportswear, Inc. (Wrks) | Brooklyn, NY | 05/09/2000 | Beachwear.
37,682 | Johnson Controls, Inc. (Comp) | Goshen, IN | 04/27/2000 | Machining Equip for Parts.
37,683 | LeFever Plastics, Inc. (Comp) | Huntsville, OH | 05/05/2000 | Plastic Injection Molded Grommets.

[FR Doc. 00-13753 Filed 6-1-00; 8:45 am]

BILLING CODE 4510-30-M